DEPARTMENT OF DEFENSE

Office of the Secretary

[Transmittal No. 24-71]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(1) arms sales notification is published to fulfill the requirements of section 155 of Public Law 104-164 dated July 21, 1996. The following is a copy of a letter to the Speaker of the House of Representatives with attached Transmittal 24-71 and Policy Justification.

Dated: November 14, 2025.
Aaron T. Siegel,
Alternate OSD Federal Register Liaison Officer, Department of Defense.

BILLING CODE 6001-FR-P

BILLING CODE 6001-FR-C

Transmittal No. 24-71

Notice of Proposed Issuance of Letter of Offer Pursuant to Section 36(b)(1) of the Arms Export Control Act, as amended

(i) Prospective Purchaser: Government of Japan

(ii) Total Estimated Value:

Major Defense Equipment * | $ 0
Other | $150 million
TOTAL | $150 million

(iii) Description and Quantity or Quantities of Articles or Services under Consideration for Purchase:

Major Defense Equipment (MDE):

None

Non-Major Defense Equipment:

Follow-on technical support of AEGIS Class Destroyers, which will include sustainment support and services; AEGIS computer software updates; system integration and testing; in-country and on-site engineering support; familiarization; sustainment; all necessary emergent support engineering and technical support services; operational support; system overhauls; system upgrades; on-the-job practical operations and maintenance; combat systems integration; development, testing, and installation of program patches and adaptation data and annual service agreements; technical inquiries by the purchaser; operation; integration; maintenance; field service engineering; problem investigation; technical assistance; solutions to the technical problems arising from post production and testing capabilities; U.S. Government and contractor technical assistance; and other related elements of logistics and program support.

(iv) Military Department: Navy (JA-P-QNB)

(v) Prior Related Cases, if any: JA-P-QHM; JA-P-QFA

(vi) Sales Commission, Fee, etc., Paid, Offered, or Agreed to be Paid: None known

(vii) Sensitivity of Technology Contained in the Defense Article or Defense Services Proposed to be Sold: None

(viii) Date Report Delivered to Congress: September 3, 2024

* As defined in Section 47(6) of the Arms Export Control Act.

POLICY JUSTIFICATION

Japan—AEGIS Class Destroyer Follow-On Technical Support

The Government of Japan has requested to buy follow-on technical support of AEGIS Class Destroyers, which will include sustainment support and services; AEGIS computer software updates; system integration and testing; in-country and on-site engineering support; familiarization; sustainment; all necessary emergent support engineering and technical support services; operational support; system overhauls; system upgrades; on-the-job practical operations and maintenance; combat systems integration; development, testing, and installation of program patches and adaptation data and annual service agreements; technical inquiries by the purchaser; operation; integration; maintenance; field service engineering; problem investigation; technical assistance; solutions to the technical problems arising from post production and testing capabilities; U.S. Government and contractor technical assistance; and other related elements of logistics and program support. The estimated total cost is $150 million.

This proposed sale will support the foreign policy goals and national security objectives of the United States by improving the security of a major ally that is a force for political stability and economic progress in the Indo-Pacific region.

The proposed sale is critical to ensure the Japan Maritime Self Defense Force's (JMSDF) AEGIS Destroyer fleet and computer program test sites remain ready to provide capabilities in the defense of Japan. Specifically, the requested AEGIS computer program maintenance services will provide JMSDF with software patches and adaptation data support that are vital to the effective and safe operations of the AEGIS Combat Systems (ACS) suite. The in-country engineering and emergent support will assist JMSDF to address any malfunctions or faults that may arise with the ACS suite. Japan will have no difficulty absorbing these services and support into its armed forces.

The proposed sale of this equipment and support will not alter the basic military balance in the region.

The principal contractor will be Lockheed Martin Corporation, located in Moorestown, NJ. There are no known offset agreements proposed in connection with this potential sale.

Implementation of this proposed sale will require the temporary assignment of five U.S. Government and two contractor representatives to Japan.

There will be no adverse impact on U.S. defense readiness as a result of this proposed sale.

[FR Doc. 2025-20149 Filed 11-17-25; 8:45 am]

BILLING CODE 6001-FR-P